DEPARTMENT OF THE INTERIOR

Fish and Wildlife Service

Information Collection To Be Submitted to the Office of Management and Budget for Approval Under the Paperwork Reduction Act; Grant Agreement and Amendment to Grant Agreement

AGENCY: Fish and Wildlife Service, Interior.

ACTION: Notice; request for comments.

SUMMARY: The U.S. Fish and Wildlife Service (We) will submit the collection of information described below to the Office of Management and Budget for approval under the provisions of the Paperwork Reduction Act (PRA). You may obtain copies of the collection requirement, related forms, and explanatory material by contacting the Service's Information Collection Clearance Officer at the address listed below. We are soliciting public comment on this information collection.

DATES: Interested parties must submit comments on or before July 7, 2003.

ADDRESSES: Mail your comments on the information collection to Anissa Craghead, Information Collection Clearance Officer, U.S. Fish and Wildlife Service, 4401 North Fairfax Drive, Suite 222, Arlington, VA 22203; or e-mail Anissa_Craghead@fws.gov.

FOR FURTHER INFORMATION CONTACT: Anissa Craghead at (703) 358-2445 or Anissa_Craghead@fws.gov.

SUPPLEMENTARY INFORMATION: The Office of Management and Budget (OMB) regulations at 5 CFR 1320, which implement provisions of the Paperwork Reduction Act of 1995 (44 U.S.C. 3501 et seq.), require that interested members of the public and affected agencies have an opportunity to comment on information collection and recordkeeping activities (see 5 CFR 1320.8(d)). We plan to submit a request to OMB to renew its approval of the collection of information for the Grant Agreement and Amendment to Grant Agreement. We are requesting a 3-year term of approval for this information collection activity. Federal agencies may not conduct or sponsor, and a person is not required to respond to, a collection of information unless it displays a currently valid OMB control number. The OMB control number for this collection of information is 1018-0049.

Under the authority of the Federal Aid in Wildlife Restoration Act (16 U.S.C. 669-669i), the Federal Aid in Sport Fish Restoration Act (16 U.S.C. 777-777l), the Anadromous Fish Conservation Act (16 U.S.C. 757a-757g), the Endangered Species Act (16 U.S.C. 1531 et seq.), the Clean Vessel Act (16 U.S.C. 777c), the Sportfishing and Boating Safety Act (16 U.S.C. 777g-1), and the Coastal Wetlands Planning, Protection, and Restoration Act (16 U.S.C. 3951-3956), we administer several grant programs. We use the information collected in grant applications and agreements to make awards under these grant programs. The information collected on the grant applications and agreements helps us determine whether the estimated cost of the grant project is reasonable, the cost sharing is consistent with the applicable program statutes, and sufficient Federal funds are available for obligation. The State or other grantee uses the grant application forms and agreements to request funds and identify proposed cost sharing. Grantees complete an Amendment to Grant Agreement to request a change to a previously approved Grant Agreement. We use the Amendment to Grant Agreement to revise a previous funding obligation or otherwise document the approval of a revision. The Grant Agreement and Amendment to Grant Agreement that we will submit to OMB for approval are modified slightly to lesson the burden on the public and to make them easier for the Service to use.

Title: Grant Agreement and Amendment to Grant Agreement.

OMB Approval Number: 1018-0049.

Service Form Number(s): 3-1552 (Grant Agreement) and 3-1591 (Amendment to Grant Agreement).

Frequency of Collection: Annually.

Description of Respondents: State, territorial (the Commonwealth of Puerto Rico, the District of Columbia, the Commonwealth of the Northern Mariana Islands, Guam, the Virgin Islands, and American Samoa), and local governments, and others receiving grant funds.

Total Annual Burden:

Form name | Completion time perform (hours) | Annual number of respondents | Annual hour burden
Grant Agreement | 1 | 3500 | 3500
Amendment to Grant Agreement | 1 | 1750 | 1750
Totals |  | 5250 | 5250 hours

We invite comments on: (1) Whether the collection of information is necessary for the proper performance of the functions of the agency, including whether the information will have practical utility; (2) the accuracy of our estimate of the burden of the collection of information; (3) ways to enhance the quality, utility, and clarity of the information to be collected; and (4) ways to minimize the burden of collection of information on respondents, including through the use of appropriate automated, electronic, mechanical, or other technological collection techniques or other forms of information technology.

Dated: April 30, 2003.
Matt Hogan,
Acting Director, Fish and Wildlife Service

[FR Doc. 03-11429 Filed 5-7-03; 8:45 am]

BILLING CODE 4310-55-P